DEPARTMENT OF THE INTERIOR

Bureau of Land Management

[LLWY921000, L14300000.ET0000; WYW-167985]

Public Land Order No. 7843; Withdrawal of Public Lands for the Protection of the Split Rock and Devil's Gate Interpretive Sites; Wyoming

AGENCY: Bureau of Land Management, Interior.

ACTION: Public land order.

SUMMARY: This order withdraws 343.23 acres of public lands from location and entry under the United States mining laws, but not from leasing under the mineral or geothermal leasing laws, or disposal under the Materials Act of 1947, for a period of 20 years to protect and preserve the Split Rock and Devil's Gate interpretive sites located along national historic trails in Fremont and Natrona Counties, Wyoming.

DATES: Effective Date: December 8, 2015.

FOR FURTHER INFORMATION CONTACT: Janelle Wrigley, Realty Officer, Bureau of Land Management, Wyoming State Office, 5353 Yellowstone Road, Cheyenne, Wyoming 82009, 307-775-6257 or via email at jwrigley@blm.gov. Persons who use a telecommunications device for the deaf (TDD) may call the Federal Information Relay Service (FIRS) at 1-800-877-8339 to contact the above individual. The FIRS is available 24 hours per day, 7 days per week, to leave a message or question with the above individual. You will receive a reply during normal business hours.

SUPPLEMENTARY INFORMATION: The Bureau of Land Management will manage the land to protect the unique archeological, historical, geological, and recreational values of these two sites as well as the Federal investment for visitor use because of the special historical interpretive attributes contained at the sites.

Order

By virtue of the authority vested in the Secretary of the Interior by Section 204 of the Federal Land Policy and Management Act of 1976, 43 U.S.C. 1714, it is ordered as follows:

1. Subject to valid existing rights, the following described public lands are hereby withdrawn from location and entry under the United States mining laws (30 U.S.C. Ch. 2), but not from leasing under the mineral or geothermal leasing laws, or disposal under the Materials Act of 1947, on behalf of the Bureau of Land Management to protect unique archeological, historical, geological, and recreational values of these two sites.

Sixth Principal Meridian

Devil's Gate

T. 29 N., R. 87 W.,

Sec. 35, NE¼SE¼, NE¼NE¼NW¼SE¼, S½N½NW¼SE¼, S½NW¼SE¼, N½SW¼SE¼, and N½SE¼SE¼.

Split Rock

T. 29 N., R. 89 W.,

Sec. 30, lot 2, NE¼NW¼ and N½SE¼NW¼.

T. 29 N., R. 90 W.,

Sec. 25, E½SW¼NE¼, SE¼NE¼, E½NW¼SE¼, NE¼SE¼, and N½N½SE¼SE¼.

The areas described aggregate 343.23 acres, more or less, in Fremont and Natrona Counties, Wyoming.

2. The withdrawal made by this order does not alter the applicability of the public land laws other than the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: November 13, 2015.
Janice M. Schneider,
Assistant Secretary—Land and Minerals Management.

[FR Doc. 2015-30900 Filed 12-7-15; 8:45 am]

BILLING CODE 4310-22-P